DEPARTMENT OF TRANSPORTATION

Maritime Administration

U.S. Merchant Marine Academy Board of Visitors; Public Meeting

AGENCY: Maritime Administration, Department of Transportation.

ACTION: Notice of public meeting.

SUMMARY: The U.S. Department of Transportation, Maritime Administration announces a meeting of the U.S. Merchant Marine Academy Board of Visitors (BOV).

DATES: The meeting will be held on February 3, 2020, from 9:00 a.m. to 3:00 p.m. Requests for, and the written materials to be reviewed during the meeting must be received no later than January 31, 2020.

Requests to attend the meeting must be received by January 30, 2020.

Requests for special accommodations must be received by January 31, 2020.

ADDRESSES: The meeting will be held at the U.S. Merchant Marine Academy, Kings Point, NY, Melville Hall.

FOR FURTHER INFORMATION CONTACT: The BOV's Designated Federal Officer and Point of Contact George Rhynedance, 516-726-6048 or via email at rhynedanceg@usmma.edu.

SUPPLEMENTARY INFORMATION: The USMMA BOV is a Federal Advisory Committee originally established as a Congressional Board by Section 51312 of Title 46, United States Code “to provide independent advice and recommendations on matters relating to the United States Merchant Marine Academy.” The Board was chartered under the Federal Advisory Committee Act (FACA) on October 25, 2019.

Members of the BOV for the 116th Congress are:

Senator Roger Wicker (MS), ex officio

Senator Jerry Moran (KS)

Rep. Adam Smith (WA-09), ex officio

Rep. Max Rose (NY-11)

Rep. Mikie Sherrill (NJ-11)

Rep. Jack Bergman (MI-01)

Rep. Peter King (NY-02)

Rep. Tom Suozzi (NY-03)

Ms. Jennifer Boykin (USMMA Graduate)

Mr. Kevin Walsh (USMMA Graduate)

Mr. Stephen Carmel (Maritime Industry Representative)

Vice Admiral Johnny R. Wolfe, Jr. (USN Flag Officer)

Lieutenant Colonel Robert Scott Volkert (USMC Flag Officer)

Rear Admiral Michael A. Wettlaufer, USN, Commander, Military Sealift Command, ex officio

Vice Admiral Daniel B. Abel, USCG, Deputy Commandant for Operations, ex officio

Dr. Henry S. Marcus, DBA, Chairman, USMMA Advisory Board, ex officio

Agenda

At the meeting, the agenda will cover the following topics:

(a) Introduce the Academy Superintendent and Academic Dean/Provost to new members of the Board of Visitors.

(b) Provide a briefing on the Critical Infrastructure Plan, the infrastructure spending plan and ongoing capital improvements.

(c) Provide an update on the general state of the Academy, Class of 2023 performance, and status of incoming class of 2024.

(d) Provide an update on the Sexual Assault/Sexual Harassment program progress.

(e) Provide an update on the status of implementing the 5-year Strategic Plan as well as the Master Plan.

(f) Establish the meeting schedule for CY 2020.

Public Participation

This meeting is open to the public. Seating is on a first-come basis. Members of the public wishing to attend the meeting will need to present photo identification to gain access to the meeting location. The U.S. Department of Transportation is committed to providing equal access to this meeting for all participants. If you need alternative formats or special accommodations, such as sign language, interpretation, or other ancillary aids, please contact the person listed in the FOR FURTHER INFORMATION CONTACT section.

Any member of the public is permitted to file a written statement with the BOV. Written statements should be sent to the Designated Federal Officer listed in the FOR FURTHER INFORMATION CONTACT section (Please contact the Designated Federal Officer for information on submitting comments via fax). Only written statements will be considered by the BOV; no member of the public will be allowed to present questions from the floor or speak to any issue under consideration by the BOV unless requested to do so by a member of the Board.

(Authority: 46 U.S.C. 51312; 5 U.S.C. 552b; 5 U.S.C. App. 2; 41 CFR parts 102-3.140 through 102-3.165)

* * * * *

Dated: January 15, 2020.
By Order of the Maritime Administrator.
T. Mitchell Hudson, Jr.,
Secretary, Maritime Administration.

[FR Doc. 2020-00834 Filed 1-17-20; 8:45 am]

BILLING CODE 4910-81-P